NUCLEAR REGULATORY COMMISSION

Receipt of Request for Action Under 10 CFR 2.206

Docket No. 040-08850, License No. SUB-1440, ATK Tactical Systems Company, LLC

Docket No. 030-28641, License No. 42-23539-01AF, Department of the Air Force

Docket No. 040-06394, License No. SMB-141, Department of the Army

Docket No. 040-07086, License No. SUB-734, Department of the Army

Docket No. 040-08814, License No. SMB-1411, Department of the Army

Docket No. 040-08838, License No. SUB-1435, Department of the Army

Docket No. 040-07354, License No. SUB-834, Department of the Army

Docket No. 040-08779, License No. SUC-1391, Department of the Army

Docket No. 040-08767, License No. SUC-1380, Department of the Army

Docket No. 030-29462, License No. 45-23645-01NA, Department of the Navy

Notice is hereby given that by petition dated April 3, 2005, James Salsman has requested that the U.S. Nuclear Regulatory Commission take action with regard to licensees holding a depleted uranium munitions license. The petitioner requests that “* * * all licenses allowing the possession, transport, storage, or use of pyrophoric uranium munitions be modified to impose enforceable conditions on all such licensees in order to rectify their misconduct * * *.”

The petitioner states “The basis for this request is the gross negligence on the part of the licensees, * * *.”

The request is being treated pursuant to 10 CFR 2.206 of the Commission's regulations. The request has been referred to the Director of the Office of Nuclear Material Safety and Safeguards (NMSS). As provided by 10 CFR 2.206, appropriate action will be taken on this petition within 120 days. The petitioner discussed the petition with the NMSS Petition Review Board on May 4, 2005. The results of that discussion were considered in the Board's determination regarding the petitioner's request for immediate action and in establishing the schedule for the review of the petition. By letter dated May 26, 2005, the Director denied the petitioner's request for immediate action regarding depleted uranium munitions licenses. A copy of the petition (Accession Number ML051240497) is available in the Agencywide Documents and Management System (ADAMS) for inspection at the Commission's Public Document Room, located at One White Flint North, 11555 Rockville Pike (first floor), Rockville, Maryland, and from the ADAMS Public Library component on NRC's Web site, http://www.nrc.gov (the Public Electronic Reading Room).

Dated at Rockville, Maryland, this 26th day of May, 2005.
For the Nuclear Regulatory Commission.
Jack R. Strosnider,
Director, Office of Nuclear Material Safety and Safeguards.

[FR Doc. E5-2846 Filed 6-2-05; 8:45 am]

BILLING CODE 7590-01-P